NATIONAL AERONAUTICS AND SPACE ADMINISTRATION

48 CFR Parts 1817 and 1852

NASA Federal Acquisition Regulation Supplement

AGENCY: National Aeronautics and Space Administration.

ACTION: Technical amendments.

SUMMARY: NASA is making technical amendments to the NASA FAR Supplement (NFS) to provide needed editorial changes.

DATES: Effective: November 6, 2015.

FOR FURTHER INFORMATION CONTACT: Manuel Quinones, NASA, Office of Procurement, Contract and Grant Policy Division, via email at manuel.quinones@nasa.gov, or telephone (202) 358-2143.

SUPPLEMENTARY INFORMATION:

I. Background

As part of NASA's retrospective review of existing regulations pursuant to section 6 of Executive Order 13563, Improving Regulation and Regulatory Review, NASA conducted a comprehensive review of its regulations and published two final rules in the Federal Register. The final rule published on March 12, 2015, (80 FR 12935) requires the following editorial changes:

• Renumber section 1817.7300 as 1817.7000 and section 1817.7302 as 1817.7002. The final rule published on March 12, 2015, redesignated subpart 1817.73 as 1817.70, but failed to address its subsections.

• Correct the clause date at section 1852.215-81.

List of Subject in 48 CFR Parts 1817 and 1852

Government procurement.

Manuel Quinones,
NASA FAR Supplement Manager.

Accordingly, 48 CFR parts 1817 and 1852 are amended as follows:

PART 1817—SPECIAL CONTRACTING METHODS

1. The authority citation for part 1817 is revised to read as follows:

Authority: 51 U.S.C. 20113(a) and 48 CFR chapter 1.

Subpart 1817-70 [Amended]

1817.7300 and 1817.7302 [Redesignated as 1817.7000 and 1817.7002]

2. Amend subpart 1817.70 by redesignating section 1817.7300 as 1817.7000 and section 1817.7302 as 1817.7002.

PART 1852—SOLICITATION PROVISIONS AND CONTRACT CLAUSES

3. The authority citation for part 1852 continues to read as follows:

Authority: 51 U.S.C. 20113(a) and 48 CFR chapter 1.

1852.215-81 [Amended]

4. Amend section 1852.215-81 by removing “FEB 1998” and adding “APR 2015” in its place.

[FR Doc. 2015-28309 Filed 11-5-15; 8:45 am]

BILLING CODE 7510-13-P